DEPARTMENT OF ENERGY

[FE Docket Nos. 04-09-NG, 04-06-NG, 04-04-LNG, 04-08-NG, 04-10-NG, 04-11-NG, 04-08-NG, 04-14-NG, 04-05-NG, 04-12-NG, 04-16-NG, 04-15-LNG, 04-18-NG, 04-13-NG, 04-19-NG, and 04-17-NG.]

Office of Fossil Energy; EPCOR Merchant and Capital (US) Inc., Chevron U.S.A. Inc., Excelerate Energy L.P., Oneok Energy Marketing and Trading Company, PPM Energy, Inc., Burlington Resources Canada Marketing Ltd., Oneok Energy Marketing and Trading Company, Oneok Energy Services Canada, Ltd., Petrocom Energy Group, Ltd., Devon Canada Marketing Corporation, Michigan Consolidated Gas Company, BG LNG Services, LLC, Entergy-Koch Trading Canada, ULC, Entergy-Koch Trading L.P., Coral Canada US Inc., and Sequent Energy Management, L.P.; Orders Granting and Vacating Authority To Import and Export Natural Gas, Including Liquefied Natural Gas

AGENCY: Office of Fossil Energy, DOE.

ACTION: Notice of orders.

SUMMARY: The Office of Fossil Energy (FE) of the Department of Energy gives notice that during February 2004, it issued Orders granting and vacating authority to import and export natural gas, including liquefied natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on March 3, 2004.
Sally Kornfeld,
Manager, Natural Gas Regulation, Office of Natural Gas & Petroleum Import & Export Activities, Office of Fossil Energy.

Appendix—Orders Granting and Vacating Import/Export Authorizations
[DOE/FE Authority]
Order No. | Date issued | Importer/Exporter FE Docket No. | Import volume | Export volume | Comments
1937 | 2-6-04 | EPCOR Merchant and Capital (US) Inc. 04-09-NG | 22 Bcf | 33 Bcf | Import and export natural gas from and to Canada, beginning on January 25, 2004, and extending through January 24, 2006.
1938 | 2-6-04 | Chevron U.S.A. Inc. 04-06-NG | 55 Bcf |  | Import and export a combined total of natural gas from and to Canada, beginning on February 6, 2004, and extending through February 5, 2006.
1939 | 2-6-04 | Excelerate Energy L.P. 04-04-LNG | 400 Bcf |  | Import liquefied natural gas from various international sources beginning on December 1, 2004, and extending through November 30, 2006.
1940 | 2-9-04 | ONEOK Energy Marketing and Trading Company 04-08-NG | 150 Bcf |  | Import and export a combined total of natural gas from and to Canada, beginning on February 9, 2004, and extending through February 8, 2006.
1941 | 2-9-04 | PPM Energy, Inc. 04-10-NG | 150 Bcf |  | Import and export a combined total of natural gas from and to Canada, beginning on July 1, 2003, and extending through June 30, 2005.
1942 | 2-10-04 | Burlington Resources Canada Marketing Ltd. 04-11-NG | 250 Bcf |  | Import and export a combined total of natural gas from and to Canada, beginning on March 31, 2004, and extending through March 30, 2006.
1940-A | 2-12-04 | ONEOK Energy Marketing and Trading Company 04-08-NG |  |  | Vacate import and export blanket authority.
1943 | 2-12-04 | ONEOK Energy Services Canada, LTD. 04-14-NG | 150 Bcf |  | Import and export a combined total of natural gas from and to Canada, beginning on February 12, 2004, and extending through February 11, 2006.
1944 | 2-13-04 | Petrocom Energy Group, Ltd. 04-05-NG | 73 Bcf | 73 Bcf | Import and export natural gas from and to Canada and Mexico, beginning on February 14, 2004, and extending through February 13, 2006.
1945 | 2-18-04 | Devon Canada Marketing Corporation 04-12-NG | 50 Bcf |  | Import natural gas from Canada, beginning on February 1, 2004, and extending through January 31, 2006.
1946 | 2-18-04 | Michigan Consolidated Gas Company 04-16-NG |  | 30 Bcf | Export natural gas to Canada, beginning on May 1, 2004, and extending through April 30, 2006.
1947 | 2-18-04 | BG LNG Services, LLC 04-15-NG | 1,500 Bcf |  | Import liquefied natural gas from various international sources beginning on March 22, 2004, and extending through March 21, 2006.
1948 | 2-23-04 | Entergy-Koch Trading Canada, ULC 04-18-NG | 100 Bcf |  | Import and export a combined total of natural gas from and to Canada, beginning on February 23, 2004, and extending through February 22, 2006.
1949 | 2-23-04 | Entergy-Koch Trading L.P. 04-13-NG | 800 Bcf |  | Import and export a combined total of natural gas from and to Canada, beginning on May 1, 2004, and extending through April 30, 2006.
1950 | 2-26-04 | Coral Canada US Inc. 04-19-NG | 350 Bcf | 350 Bcf | Import and export natural gas from and to Canada, beginning on August 1, 2003, and extending through July 31, 2005.
1951 | 2-27-04 | Sequent Energy Management, L.P. 04-17-NG | 500 Bcf |  | Import and export a combined total of natural gas from and to Canada and Mexico, beginning on April 1, 2004, and extending through March 31, 2006.

[FR Doc. 04-5358 Filed 3-9-04; 8:45 am]

BILLING CODE 6450-01-P